DEPARTMENT OF JUSTICE

Notice of Lodging of Proposed Consent Decree Under the Comprehensive Environmental Response, Compensation and Liability Act

On December 16, 2021, the Department of Justice lodged a proposed Consent Decree with the United States District Court for the Southern District of Illinois in the lawsuit entitled United States v. Alcoa Corporation, et al., Civil Action No. 21-1694.

The United States filed a Complaint in this lawsuit under the Comprehensive Environmental Response, Compensation and Liability Act (CERCLA). The United States' complaint names Alcoa Corporation and the City of East St. Louis, Illinois as defendants. The complaint requests recovery of oversight and other response costs that the United States incurred and will incur in connection with remedial efforts taken at the former aluminum production plant on Missouri Avenue in East St. Louis, Illinois that Alcoa Incorporated operated from 1903 to 1957. The complaint also seeks an order requiring defendants to implement remedial work at Operable Unit 2 of the North Alcoa Superfund Alternative Site as selected by the U.S. Environmental Protection Agency in a Record of Decision issued in June 2020. The defendants and Howmet Aerospace, Inc., a company created after the separation of Alcoa Incorporated in 2016, signed the proposed Consent Decree agreeing to complete the work, estimated to cost $4.1 million, and to pay all of the United States' future response costs at the site. In return, the United States agrees not to sue the defendants or Howmet under sections 106 and 107 of CERCLA related to this work.

The publication of this notice opens a period for public comment on the Consent Decree. Comments should be addressed to the Assistant Attorney General, Environment and Natural Resources Division, and should refer to United States v. Alcoa Corporation, et al., D.J. Ref. No. 90-11-3-10590/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.We will provide a paper copy of the proposed Consent Decree upon written request and payment of reproduction costs. Please mail your request and payment to: Consent Decree Library, U.S. DOJ—ENRD, P.O. Box 7611, Washington, DC 20044-7611.

Please enclose a check or money order for $45.75 (25 cents per page reproduction cost) payable to the United States Treasury. For a paper copy without Appendix A (the Record of Decision), the cost is only $24.50.

Patricia Mckenna,
Assistant Section Chief, Environmental Enforcement Section, Environment and Natural Resources Division.

[FR Doc. 2021-27988 Filed 12-23-21; 8:45 am]

BILLING CODE 4410-15-P